DEPARTMENT OF ENERGY

Federal Energy Regulatory Commission

[Docket No. CP04-392-000]

Penn-Jersey Pipe Line Co. and NUI Utilities, Inc. (Elizabethtown Gas Division); Notice of Application

August 11, 2004.

On August 3, 2004, Penn-Jersey Pipe Line Co. (Penn-Jersey) and NUI Utilities, Inc. (Elizabethtown Gas Division) (NUI) filed a Joint Application pursuant to sections 7(b) and 7(f) of the Natural Gas Act, as amended, 15 U.S.C. 717f(b) and 717f(f) (2000), and part 157 of the Commission's regulations, 18 CFR part 157 (2004), for an order (i) approving Penn-Jersey's abandonment of its jurisdictional facilities and service authorized under its part 157 certificate of public convenience and necessity; (ii) granting NUI/Elizabethtown a determination of a service area within which NUI/Elizabethtown may, without further Commission authorization, enlarge or expand its facilities, and (iii) granting such waivers or other relief as the Commission may deem necessary or appropriate, all as more fully set forth in the application which is on file with the Commission. The filing may be also viewed on the Web at http://www.ferc.gov using the “e-Library” link. Enter the docket number excluding the last three digits in the docket number field to access the document. For assistance, please contact FERC Online Support at FERCOnlineSupport@ferc.gov or toll-free, (866) 208-3676, or for TTY, (202) 502-8659.

Any questions regarding the application should be directed to C.R. Carver, President and Treasurer, Penn-Jersey Pipe Line Co., 105 Stewart Rd, Short Hills, NJ 07078-1923, at (973) 379-5342 or by fax at (973) 467-0529 or Mary Patricia Keefe, NUI Utilities, Inc., 1085 Morris Ave, Union, NJ 07083 at (908) 351-7373 or by fax at (908) 352-3908.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link.

Comment Date: September 1, 2004.

Magalie Roman Salas,
Secretary.

[FR Doc. E4-1843 Filed 8-18-04; 8:45 am]

BILLING CODE 6717-01-P